NUCLEAR REGULATORY COMMISSION

[NRC-2018-0170]

Guidance for Implementation of Physical Protection of Category 1 and Category 2 Quantities of Radioactive Material

AGENCY: Nuclear Regulatory Commission.

ACTION: Draft NUREG; request for comments.

SUMMARY: The U.S. Nuclear Regulatory Commission (NRC) is revising its guidance for implementation of physical protection of Category 1 and Category 2 quantities of radioactive material. The NRC is requesting public comments on draft NUREG-2155, Revision 2, “Implementation Guidance for 10 CFR part 37, `Physical Protection of Category 1 and Category 2 Quantities of Radioactive Material.' ” The document has been updated from NUREG-2155, Revision 1, to include revisions to questions and answers and guidance related to general provisions in the rule, background investigations and access authorization programs, and physical protection requirements during use and in transit.

DATES: Submit comments by February 18, 2020. Comments received after this date will be considered if it is practical to do so, but the Commission is able to ensure consideration only for comments received before this date.

ADDRESSES: You may submit comments by any of the following methods:

• Federal Rulemaking Website: Go to https://www.regulations.gov and search for Docket ID NRC-2018-0170. Address questions about NRC docket IDs in Regulations.gov to Jennifer Borges; telephone: 301-287-9127; email: Jennifer.Borges@nrc.gov. For technical questions, contact the individual listed in the FOR FURTHER INFORMATION CONTACT section of this document.

• Mail comments to: Office of Administration, Mail Stop: TWFN-7-A60M, U.S. Nuclear Regulatory Commission, Washington, DC 20555-0001, ATTN: Program Management, Announcements and Editing Staff.

For additional direction on accessing information and submitting comments, see “Obtaining Information and Submitting Comments” in the SUPPLEMENTARY INFORMATION section of this document.

FOR FURTHER INFORMATION CONTACT: Paul Goldberg, Office of Nuclear Material Safety and Safeguards; U.S. Nuclear Regulatory Commission, Washington, DC 20555-0001; telephone: 301-415-7842; email: Paul.Goldberg@nrc.gov.

SUPPLEMENTARY INFORMATION:

I. Obtaining Information and Submitting Comments

A. Obtaining Information

Please refer to Docket ID NRC-2018-0170 when contacting the NRC about the availability of information regarding this document. You may access publicly-available information related to this action by the following methods:

• Federal Rulemaking Website: Go to https://www.regulations.gov and search for Docket ID NRC-2018-0170.

• NRC's Agencywide Documents Access and Management System (ADAMS): You may obtain publicly-available documents online in the ADAMS Public Documents collection at https://www.nrc.gov/reading-rm/adams.html. To begin the search, select “Begin Web-based ADAMS Search.” For problems with ADAMS, please contact the NRC's Public Document Room (PDR) reference staff at 1-800-397-4209, 301-415-4737, or by email to pdr.resource@nrc.gov. The draft NUREG-2155, is available in ADAMS under Accession No. ML19298A303.

• NRC's PDR: You may examine and purchase copies of public documents at the NRC's PDR, Room O1-F21, One White Flint North, 11555 Rockville Pike, Rockville, Maryland 20852.

• NRC's public website: The draft NUREG-2155, Revision 2 is also available on the NRC's public website at https://www.nrc.gov/reading-rm/doc-collections/nuregs/staff/ under “Implementation Guidance for 10 CFR part 37, `Physical Protection of Category 1 and Category 2 Quantities of Radioactive Material' ” (NUREG-2155).

B. Submitting Comments

Please include Docket ID NRC-2018-0170 in the subject line of your comment submission, in order to ensure that the NRC is able to make your comment submission available to the public in this docket. The NRC cautions you not to include identifying or contact information that you do not want publicly disclosed in your comment submission. The NRC will post all comment submissions at https://www.regulations.gov/ as well as enter the comment submissions into ADAMS, and the NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment submissions into ADAMS.

II. Additional Information

NUREG-2155, Revision 2 is intended to provide guidance on, and to assist applicants and licensees in, the implementation of part 37 of title 10 of the Code of Federal Regulations (10 CFR), “Physical Protection of Category 1 and Category 2 Quantities of Radioactive Material.” This document describes methods that the NRC finds acceptable for implementing the regulations. The purpose of this notice is to provide the public with an opportunity to review and provide comments on draft NUREG-2155, Revision 2. These comments will be considered in the final version or subsequent revisions.

Dated at Rockville, Maryland, this 15th day of November, 2019.
For the Nuclear Regulatory Commission.
Paul J. Michalak,
Acting Director, Division of Materials Safety, Security, State and Tribal Programs, Office of Nuclear Material Safety and Safeguards.

[FR Doc. 2019-25163 Filed 11-19-19; 8:45 am]

BILLING CODE 7590-01-P